Proclamation 9919 of August 30, 2019

National Preparedness Month, 2019

By the President of the United States of America

A Proclamation

Since the early days of our Nation's history, Americans have always demonstrated perseverance and determination in the face of great challenges. Our Nation's efforts to be prepared for whatever lies ahead have contributed to our ability to consistently rise to the occasion when adversity strikes. During National Preparedness Month, we focus on promoting a culture of preparedness to make our homes, businesses, communities, and Nation more ready and resilient in the face of natural, adversarial, accidental, and technological hazards. We also honor and express our immense appreciation for the brave first responders who risk their lives to help others before, during, and after emergencies.

During the last 2 years, Americans have faced some of the most devastating natural disasters and emergencies in our Nation's history. From the U.S. Virgin Islands to the Hawaiian Islands, we have endured hurricanes, wildfires, floods, blizzards, earthquakes, tornadoes, and other extreme weather and perilous events. Our resolve as a Nation has been tested again and again. More than 50 people lost their lives after record rainfall and strong winds from Hurricane Florence caused catastrophic flooding and structural damage throughout the Carolinas. Hurricane Michael became the strongest hurricane ever to hit the Florida Panhandle, causing major damage to property and tragically taking more lives. And California's Camp Fire, which took the lives of more than 80 people and destroyed thousands of homes, was the deadliest and one of the most destructive wildfires in more than a century.

In spite of these tremendous challenges, the American people remain steadfast in their commitment to overcoming any adversity. While Federal, State, local, tribal, and territorial offices, as well as non-governmental organizations, coordinate with first responders and emergency personnel before, during, and after an emergency, the most integral part of an effective recovery following a disaster is preparedness at every level of government, in the private sector, and especially among our citizens. Maintaining readiness starts by having an emergency plan in place before disaster strikes. Signing up for alerts sent to mobile devices is crucial. These alerts provide critical early warnings, enabling people to get to safety before disaster strikes. An emergency fund can help cover unexpected costs for basic needs like food, water, lodging, gas, and insurance deductibles. It is also crucial to designate an out-of-town contact person that family members can call in case of an emergency. And parents and guardians should talk with their children about how to be prepared for unexpected emergencies at home or at school. The Federal Emergency Management Agency's Ready Campaign outlines simple, cost-effective, and life-saving measures you can take to prepare yourself, your family, and your property. Taking these simple steps can make a big difference during a crisis or natural disaster.

This month, as Hurricane Dorian bears down on the Florida coast, I encourage all Americans to take action to be ready and resilient. While we cannot always know when the next disaster or emergency will confront us, we must remain ready. Together, we can ensure that all Americans have the information and resources they need to safeguard themselves and their loved ones from crisis or disaster.

NOW, THEREFORE, I, DONALD J. TRUMP, President of the United States of America, by virtue of the authority vested in me by the Constitution and the laws of the United States, do hereby proclaim September 2019 as National Preparedness Month. I encourage all Americans, including Federal, State, tribal, and local officials, to take action to be prepared for disaster or emergency by making and practicing their emergency response plans. Each step we take to become better prepared makes a real difference in how our families and communities will respond and persevere when faced with the unexpected.

IN WITNESS WHEREOF, I have hereunto set my hand this thirtieth day of August, in the year of our Lord two thousand nineteen, and of the Independence of the United States of America the two hundred and forty-fourth.

[FR Doc. 2019-19365

Filed 9-4-19; 11:15 am]

Billing code 3295-F9-P